DEPARTMENT OF TRANSPORTATION

Surface Transportation Board

[STB Finance Docket No. 34218]

The Burlington Northern and Santa Fe Railway Company—Trackage Rights Exemption-Union Pacific Railroad Company

Union Pacific Railroad Company (UP), pursuant to a written trackage rights agreement entered into between UP and The Burlington Northern and Santa Fe Railway Company (BNSF), has agreed to grant temporary overhead trackage rights to BNSF over UP's rail line between UP's milepost 428.7 at Klamath Falls, OR, and UP's milepost 141.9 at Binney Junction (Marysville), CA, a total distance of approximately 286.8 miles. BNSF will operate its own trains with its own crews over UP's line under the trackage rights agreement.¹

¹ On June 20, 2002, BNSF filed a petition for exemption in STB Finance Docket No. 34218 (Sub-No. 1), The Burlington Northern and Santa Fe Railway Company—Trackage Rights Exemption—Union Pacific Railroad Company, where BNSF requests that the Board permit the proposed overhead trackage rights arrangement described in the present proceeding to expire on August 16, 2002. That petition will be addressed by the Board in a separate decision.

Operations under the exemption were scheduled to begin on June 17, 2002, the effective date of the exemption (7 days after the notice was filed).

The temporary trackage rights are to allow BNSF to bridge its train service while BNSF's main line is out of service for maintenance.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34218, must be filed with the Surface Transportation Board, 1925 K Street, N.W., Washington, DC 20423-0001. In addition, a copy of each pleading must be served on Michael E. Roper, 2500 Lou Menk Drive, P.O. Box 961039, Fort Worth, TX 76161-0039.

Board decisions and notices are available on our website at http://www.stb.dot.gov.

Decided: June 20, 2002.
By the Board, David M. Konschnik, Director, Office of Proceedings.
Vernon A. Williams,
Secretary.

[FR Doc. 02-16260 Filed 6-27-02; 8:45 am]

BILLING CODE 4915-00-P